FEDERAL COMMUNICATIONS COMMISSION

47 CFR Parts 0, 25 and 64

[IB Docket No. 02-10; DA 04-579]

Procedures to Govern the Use of Satellite Earth Stations on Board Vessels in the 5925-6425 MHz/3700-4200 MHz Bands and 14.0-14.5 GHz/11.7-12.2 GHz Bands

AGENCY: Federal Communications Commission.

ACTION: Proposed rule; extension of comment period.

SUMMARY: On January 22, 2004, the Federal Communications Commission published a proposed rule document seeking comment on proposals regarding the terrestrial fixed service and fixed satellite service operators in the C and Ku-bands. In response to a request filed by Maritime Telecommunications Network, Inc., the Commission extended the reply comment pleading cycle.

DATES: Reply Comments are due on or before March 24, 2004.

ADDRESSES: Federal Communications Commission, Office of the Secretary, 445 12th Street, SW., Washington, DC 20554.

FOR FURTHER INFORMATION CONTACT: Peggy Reitzel, Policy Division, International Bureau, (202) 418-1460.

SUPPLEMENTARY INFORMATION:

1. On November 24, 2003, the Commission released a Notice of Proposed Rulemaking (NPRM) in this proceeding (69 FR 3056, January 22, 2004). The NPRM seeks comment from the public on proposals that seek to provide regulatory certainty to both terrestrial fixed service (FS) and fixed satellite service (FSS) operators in the C- and Ku-bands by protecting existing terrestrial FS and FSS operations from harmful interference that may be caused by ESVs; by allowing for future growth of FS and FSS networks; and by promoting more efficient use of the spectrum by permitting new uses of the bands by ESVs, thereby enabling important new communications services to be provided to consumers on board vessels.

2. On February 25, 2004, Maritime Telecommunications Network, Inc. (“MTN”) filed a motion for an extension of time requesting the Commission to extend the reply comment filing deadline in this proceeding. MTN argued that additional time was necessary to address the intricate issues and the number of comments filed in this proceeding.

3. The Commission agrees that the proceeding raises complex issues and that a large number of parties filed comments. Thus, the Commission granted MTN's request and extended the reply comment pleading cycle until March 24, 2004. The Commission believes that the public interest will be served by this extension to allow for a more complete record in this proceeding.

4. Accordingly, pursuant to § 1.46 of the Commission's rules, 47 CFR 1.46, the request of Maritime Telecommunications Network Inc. is granted.

5. The deadline for filing reply comments in this proceeding is extended to March 25, 2004.

6. This action is taken under delegated authority pursuant to §§ 0.51 and 0.261 of the Commission's rules, 47 CFR 0.51, 0.261.

Federal Communications Commission.
James Ball,
Chief, Policy Division, International Bureau.

[FR Doc. 04-6720 Filed 3-24-04; 8:45 am]

BILLING CODE 6712-01-P